DEPARTMENT OF VETERANS AFFAIRS

[OMB Control No. 2900-New (VRE)]

Proposed Information Collection (Evaluation of VA's Vocational Rehabilitation and Employment (VR&E) Program) Activity; Comment Request

AGENCY: Office of Policy and Planning, Department of Veterans Affairs.

ACTION: Notice.

SUMMARY: The Office of Policy and Planning, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to satisfy the requirements detailed in Public Law 108-454, section 805. This project will collect information on awareness, demographics, health care, disability, life insurance, burial benefits, employment, education and training, and vocational rehabilitation. This project will provide information needed to evaluate the effectiveness of the VR&E program and support VA policy, planning, and quality improvement decisions.

DATES: Written comments and recommendations on the proposed collection of information should be received on or before April 13, 2009.

ADDRESSES: Submit written comments on the collection of information through Federal Docket Management System (FDMS) at http://www.Regulations.gov; or to George Fitzelle, Office of Policy and Planning, Department of Veterans Affairs, 810 Vermont Ave., NW., Washington, DC 20420 or e-mail george.fitzelle@va.gov. Please refer to “OMB Control No. 2900-NEW (VRE)” in any correspondence. During the comment period, comments may be viewed online through the FDMS.

FOR FURTHER INFORMATION CONTACT: George Fitzelle at (202) 461-5770 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy and Planning invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Evaluation of VA's Vocational Rehabilitation and Employment (VR&E) Program.

OMB Control Number: 2900-NEW (VRE).

Type of Review: New collection.

Abstract: The evaluation requires information that is not available in VA administrative files and therefore surveys will be conducted of program participants and non-participants and counselors who assist them. Focus groups will be conducted with dependents of program participants. In addition, interviews will be conducted with officials of state vocational rehabilitation programs to conduct an inventory of these programs that are also available to disabled veterans. This evaluation is part of an ongoing assessment of the effectiveness of programs conducted to fulfill the requirements of Public Law 103-62, the Government Performance and Results Act of 1993, and Title 38, § 527, Evaluation and Data Collection. This evaluation will provide information to support VA policy, planning, and quality improvement decisions.

Affected Public: Individuals or households.

Estimated Total Annual Burden: 15,175 hours.

Estimated Average Burden per Respondent: 35 minutes.

Frequency of Response: One-time.

Estimated Number of Respondents: 24,300.

Dated: February 4, 2009.
By direction of the Secretary.
Denise McLamb,
Program Analyst, Enterprise Records Service.

[FR Doc. E9-2704 Filed 2-9-09; 8:45 am]

BILLING CODE 8320-01-P